DEPARTMENT OF LABOR

Occupational Safety and Health Administration

[Docket No. OSHA-2013-0012]

Modification to the List of Appropriate NRTL Program Test Standards and the Scopes of Recognition of Several NRTLs

AGENCY: Occupational Safety and Health Administration (OSHA), Labor.

ACTION: Notice.

SUMMARY: In this notice, OSHA announces the final decision to: (1) Add one new test standard to the Nationally Recognized Testing Laboratories (NRTL) Program's list of appropriate test standards; (2) delete or replace several test standards from the NRTL Program's list of appropriate test standards; and (3) update the scope of recognition of several NRTLs.

DATES: The actions contained in this notice will become effective on March 24, 2020.

FOR FURTHER INFORMATION CONTACT: Information regarding this notice is available from the following sources:

Press inquiries: Contact Mr. Frank Meilinger, Director, OSHA Office of Communications; telephone: (202) 693-1999; email: meilinger.francis2@dol.gov.

General and technical information: Contact Mr. Kevin Robinson, Director, Office of Technical Programs and Coordination Activities, Directorate of Technical Support and Emergency Management, Occupational Safety and Health Administration; telephone: (202) 693-2110 or email: robinson.kevin@dol.gov. OSHA's web page includes information about the NRTL Program (see http://www.osha.gov/dts/otpca/nrtl/index.html).

SUPPLEMENTARY INFORMATION:

I. Background

The NRTL Program recognizes organizations that provide product-safety testing and certification services to manufacturers. These organizations perform testing and certification for purposes of the program, to U.S. consensus-based product-safety test standards. The products covered by the NRTL Program consist of those items for which OSHA safety standards require “certification” by a NRTL. The requirements affect electrical products and 38 other types of products. OSHA does not develop or issue these test standards, but generally relies on standards development organizations (SDOs), which develop and maintain the standards using a method that provides input and consideration of views of industry groups, experts, users, consumers, governmental authorities and others having broad experience in the safety field involved.

Addition of New Test Standards to the NRTL List of Appropriate Test Standards

Periodically, OSHA will add new test standards to the NRTL list of appropriate test standards following an evaluation of the test standard document. To qualify as an appropriate test standard, the agency evaluates the document to (1) verify it represents a product category for which OSHA requires certification by a NRTL, (2) verify the document represents an end product and not a component, and (3) verify the document defines safety test specifications (not installation or operational performance specifications). OSHA becomes aware of new test standards through various avenues. For example, OSHA may become aware of new test standards by: (1) Monitoring notifications issued by certain SDOs; (2) reviewing applications by NRTLs or applicants seeking recognition to include a new test standard in their scopes of recognition; and (3) obtaining notification from manufacturers, manufacturing organizations, government agencies, or other parties that a new test standard may be appropriate to add to the list of appropriate standards. OSHA may determine to include a new test standard in the list, for example, if the test standard is for a particular type of product that another test standard also covers, addresses a type of product that no standard previously covered, or is otherwise new to the NRTL Program.

SDO Deletion and Replacement of Test Standards

The NRTL Program regulations require that appropriate test standards be maintained and current (29 CFR 1910.7(c)). A test standard withdrawn by a standards development organization is no longer considered an appropriate test standard (CPL 01-00-004, NRTL Program Policies, Procedures and Guidelines Directive, Chapter 2, IX). It is OSHA's policy to remove recognition of withdrawn test standards by issuing a correction notice in the Federal Register for all NRTLs recognized for the withdrawn test standards. However, SDOs frequently will designate a replacement standard for withdrawn standards. OSHA will recognize a NRTL for an appropriate replacement test standard if the NRTL has the requisite testing and evaluation capability for the replacement test standard.

One method that NRTLs may use to show such capability involves an analysis to determine whether any testing and evaluation requirements of existing test standards in a NRTL's scope are comparable (i.e., are completely or substantially identical) to the requirements in the replacement test standard. If OSHA's analysis shows the replacement test standard does not require additional or different technical capability than an existing test standard(s), and the replacement test standard is comparable to the existing test standard(s), then OSHA can add the replacement test standard to affected NRTLs' scopes of recognition. If OSHA's analysis shows the replacement test standard requires an additional or different technical capability, or the replacement test standard is not comparable to any existing test standards, each affected NRTL seeking to have OSHA add the replacement test standard to the NRTL's scope of recognition must provide information to OSHA that demonstrates technical capability.

Other Reasons for Removal of Test Standards From the NRTL List of Appropriate Test Standards

OSHA may choose to remove a test standard from the NRTL Program's List of Appropriate Test Standards based on an internal review in which NRTL Program staff review the NRTL Program's List of Appropriate Test Standards to determine if the test standards conform to the definition of an appropriate test standard defined in NRTL Program regulations and policy. There are several reasons for removing a test standard based on this review. First, a document that provides the methodology for a single test is a test method rather than an appropriate test standard (29 CFR 1910.7(c)). As stated above, a test standard must specify the safety requirements for a specific type of product(s). A test method, however, is a specified technical procedure for performing a test, as such, a test method is not an appropriate test standard. While a NRTL may use a test method to determine if certain safety requirements are met, a test method is not itself a safety requirement for a specific product category.

Second, a document that focuses primarily on usage, installation, or maintenance requirements would also not be considered an appropriate test standard (NRTL Program Policies, Procedures and Guidelines Directive, CPL-01-00-004, Chapter 2, Section VIII, B). In some cases, however, a document may also provide safety test specifications in addition to usage, installation, and maintenance requirements. In such cases, the document would be retained as an appropriate test standard based on the safety test specifications.

Finally, a document may not be considered an appropriate test standard if the document covers products for which OSHA does not require testing and certification (NRTL Program Policies, Procedures and Guidelines Directive, CPL-01-00-004, Chapter 2, Section VIII, B). Similarly, a document that covers electrical product components would not be considered an appropriate test standard. These documents apply to types of components that have limitation(s) or condition(s) on their use, which are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not proposing to delete from NRTLs' scope of recognition any test standards covering end-use products that contain such components.¹

¹ OSHA notes also that some types of devices covered by these documents, such as capacitors and transformers, may be end-use products themselves, and tested under other test standards applicable to such products. For example, the following test standard covers transformers that are end-use products: UL 1562 Standard for Transformers, Distribution, Dry-Type—Over 600 Volts. OSHA is not proposing to delete such test standards from NRTLs' scopes of recognition.

In addition, OSHA notes that, to conform to a test standard covering an end-use product, a NRTL must still determine that the components in the product comply with the components' specific test standards. In making this determination, NRTLs may test the components themselves, or accept the testing of a qualified testing organization that a given component conforms to the particular test standard. OSHA reviews each NRTL's procedures to determine which approach the NRTL will use to address components, and reviews the end-use product testing to verify the NRTL appropriately addresses that product's components.

Proposed Modification to the List of Appropriate NRTL Program Test Standards and the Scope of Recognition of Several NRTLs

In an April 10, 2019 Federal Register notice (84 FR 14412, referred to in this notice as “Proposed Modification,” and available at www.regulations.gov under Docket ID OSHA-2013-0012-0011), OSHA proposed: Deleting several withdrawn and deleted test standards from the NRTL Program's list of appropriate test standards; incorporating into the NRTL Program's list of appropriate test standards replacement test standards for some of the withdrawn and deleted test standards; and updating the scope of recognition of several NRTLs. In response to this notice, two comments (OSHA-2013-0012-0023) and (OSHA-2013-0012-0024) were received from the public after the comment period ended. The comments were not related to this Federal Register notice, and OSHA has not made any modifications to this notice based on these comments.

OSHA further published a Federal Register notice regarding insulating links on March 14, 2019 (84 FR 9384) and announced the final decision on July 29, 2019 (84 FR 35887). This Federal Register notice addressed the issue raised in the comments within 84 FR 14412. Therefore the issue raised in the comments will not be addressed in this notice.

II. Final Decision To Add a New Test Standard to the NRTL Program's List of Appropriate Test Standards

In this notice, OSHA announces the final decision to add one test standard, UL 61010-2-061, Electrical Equipment for Measurement, Control and Laboratory Use—Part 2-061: Particular Requirements for Laboratory Atomic Spectrometers with Thermal Atomization and Ionization to the NRTL Program's list of appropriate test standards. In the Proposed Modification, OSHA proposed replacing withdrawn standards with nine standards, eight of which are already included in the NRTL Program's list of appropriate test standards. The standard OSHA will add to the NRTL Program's list of appropriate test standards is outlined below in Table 1 below:

Table 1—Test Standard OSHA Is Adding to the NRTL Program's List of Appropriate Test Standards
Test standard No. | Test standard title
UL 61010-2-061 | Electrical Equipment for Measurement, Control and Laboratory Use—Part 2-061: Particular Requirements for Laboratory Atomic Spectrometers with Thermal Atomization and Ionization.

II. Final Decision To Remove a Test Standard to the NRTL Program's List of Appropriate Test Standards

In this notice, OSHA announces the final decision to delete twenty-nine withdrawn and deleted test standards from the NRTL Program's List of Appropriate Test Standards. OSHA also incorporates into the NRTL Program's List of Appropriate Test Standards replacement test standards for some of the withdrawn and deleted test standards as described below in Table 2:

Table 2—Test Standards OSHA Is Removing From NRTL Program's List of Appropriate Test Standards
Deleted test standard | Test standard title | Reason for deletion | Replacement standard(s)
ANSI C37.44 | Distribution Oil Cutouts and Fuse Links | Withdrawn | None.
IEEE C37.09 | Standard Test Procedure for High-Voltage Circuit Breakers Rated on a Symmetrical Current Basis | Withdrawn | None.
IEEE C37.29 | Low-Voltage AC Power Circuit Protectors Used in Enclosures | Withdrawn | None.
IEEE C37.45 | Distribution Enclosed Single-Pole Air Switches | Withdrawn | None.
NEMA C37.52 | Low-Voltage AC Power Circuit Protectors Used in Enclosures—Test Procedures | Withdrawn | None.
IEEE C37.53 | High-Voltage Current Motor-Starter Fuses—Conformance Test Procedures | Withdrawn | None.
ISA 82.02.01 | Electric and Electronic Test, Measuring, Controlling and Related Equipment: General Requirement | Withdrawn | None.
UL 1093 | Halogenated Agent Fire Extinguishers | Withdrawn | None.
UL 1244 | Electrical and Electronic Measuring and Testing Equipment | Withdrawn | None.
UL 1448 | Electric Hedge Trimmers | Withdrawn and replaced | UL 60745-2-15 Particular Requirements for Hedge Trimmers.
ISA 60079-2 | Explosive Atmospheres—Part 2: Equipment Protection by Pressurized Enclosures “p” | Withdrawn and replaced | UL 60079-2 Explosive Atmospheres—Part 2: Protection by Pressurized Enclosures “p”.
ISA 60079-5 | Explosive Atmospheres—Part 5: Equipment Protection by Powder Filling “q” | Withdrawn and replaced | UL 60079-5 Explosive Atmospheres—Part 5: Equipment Protection by Powder Filling “q”.
ISA 60079-18 | Explosive Atmospheres—Part 18: Equipment Protection by Encapsulation “m” | Withdrawn and replaced | UL 60079-18 Explosive Atmospheres—Part 18: Equipment Protection by Encapsulation “m”.
ISA 60079-26 | Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 | Portable Electric Tools | Withdrawn | None.
UL 745-2 | Particular Requirements of Drills | Withdrawn | None.
UL 745-2-3 | Particular Requirements for Grinders, Polishers and Disk-Type Sanders | Withdrawn | None.
UL 745-2-17 | Particular Requirements for Circular Saws and Circular Knives | Withdrawn | None.
UL 745-2-36 | Particular Requirements for Hand Motor Tools | Withdrawn | None.
UL 745-2-37 | Particular Requirements for Plate Jointers | Withdrawn | None.
UL 61010A-1 | Electrical Equipment for Laboratory Use; Part 1: General Requirements | Withdrawn and replaced | UL 61010-1 Electrical Equipment for Measurement, Control and Laboratory Use; Part 1: General Requirements.
UL 61010A-2-010 | Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 | Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 | Electrical Equipment for Laboratory Use: Part 2: Particular Requirements for Autoclaves Using Steam for the Treatment of Medical Materials for Laboratory Purposes | Withdrawn and replaced | UL 61010-1 (no direct replacement).
UL 61010A-2-051 | Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 | Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 | Electrical Measuring and Test Equipment; Part 1: General Requirements | Withdrawn and replaced | UL 61010-1 Electrical Equipment for Measurement, Control and Laboratory Use; Part 1: General Requirements.
UL 61010B-2-031 | Electrical Equipment for Measurement, Control and Laboratory Use: Part 2: Particular Requirements for Hand-Held Probe Assemblies for Electrical Measurement and Test | Withdrawn and replaced | UL 61010-1 (no direct replacement).
UL 61010C-1 | Process Control Equipment | Withdrawn and replaced | UL 61010-1 Electrical Equipment for Measurement, Control and Laboratory Use; Part 1: General Requirements.

III. Final Decision To Modify Affected NRTLs' Scope of Recognition

In this notice, OSHA announces the final decision to update the scope of recognition of several NRTLs. The tables in this section (Table 3 thru Table 10) list, for each affected NRTL, the test standard(s) that OSHA will delete from the scope of recognition and, when applicable, the test standard(s) that OSHA will incorporate into the scope of recognition to replace withdrawn (and deleted) test standards.

Table 3—Test Standards OSHA Is Removing From the Scope of Recognition of the Canadian Standards Association
Test standard(s) being removed | Reason for removal | Replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Equipment for Laboratory Centrifuges.
IEEE C37.09 Standard Test Procedure for AC High-Voltage Circuit Breakers Rated on a Symmetrical Current Basis | Withdrawn | None.
IEEE C37.29 Low-Voltage AC Power Circuit Protectors Used in Enclosures | Withdrawn | None.
IEEE C37.45 Distribution Enclosed Single-Pole Air Switches | Withdrawn | None.
NEMA C37.52 Low-Voltage AC Power Circuit Protectors Used in Enclosures—Test Procedures | Withdrawn | None.
ISA 82.02.01 Electric and Electronic Test, Measuring, Controlling and Related Equipment: General Requirement | Withdrawn | None.
UL 1244 | Withdrawn | None.
UL 1448 | Withdrawn and Replaced | UL 60745-2-15 Particular Requirements for Hedge Trimmers.
ISA 60079-2 Explosive Atmospheres—Part 2: Equipment Protection by Pressurized Enclosures “p” | Withdrawn and replaced | UL 60079-2 Explosive Atmospheres—Part 2: Equipment Protection by Pressurized Enclosures “p”.
ISA 60079-5 Explosive Atmospheres—Part 5: Equipment Protection by Power Filling “q” | Withdrawn and replaced | UL 60079-5 Explosive Atmospheres—Part 5: Equipment Protection by Powder Filling “q”.
ISA 60079-18 Explosive Atmospheres—Part 18: Equipment Protection by Encapsulation “m” | Withdrawn and replaced | UL 60079-18 Explosive Atmospheres—Part 18: Equipment Protection by Encapsulation “m”.
ISA 60079-26 Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).
UL 61010C-1 Process Control Equipment | Withdrawn and replaced | UL 61010-1 Electrical Equipment for Measurement, Control and Laboratory Use; Part 1: General Requirements.

Table 4—Test Standards OSHA Is Removing From the Scope of Recognition of FM Approvals LLC
Test standard(s) being removed | Reason for removal | Replacement test standard(s) (if applicable)
UL 1093 | Withdrawn | None.
ISA 82.02.01 Electric and Electronic Test, Measuring, Controlling and Related Equipment: General Requirement | Withdrawn | None.
UL 61010A-1 Electrical Equipment for Laboratory Use; Part 1: General Requirements | Withdrawn and replaced | UL 61010-1 Electrical Equipment for Measurement, Control and Laboratory Use; Part 1: General Requirements.
UL 61010B-1 Electrical Measuring and Test Equipment; Part 1: General Requirements | Withdrawn and replaced | UL 61010-1 Electrical Equipment for Measurement, Control and Laboratory Use; Part 1: General Requirements.

Table 5—Test Standards OSHA Is Removing From the Scope of Recognition of Intertek Testing Services, NA
Test standard(s) being removed | Reason for removal | Replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Centrifuges.
IEEE C37.29 Low-Voltage AC Power Circuit Protectors Used in Enclosures | Withdrawn | None.
ISA 82.02.01 Electric and Electronic Test, Measuring, Controlling and Related Equipment: General Requirement | Withdrawn | None.
UL 1093 Halogenated Agent Fire Extinguishers | Withdrawn | None.
UL 1244 Electrical and Electronic Measuring and Testing Equipment | Withdrawn | None.
UL 1448 Electric Hedge Trimmers | Withdrawn and Replaced | UL 60745-2-15 Particular Requirements for Hedge Trimmers.
ISA 60079-2 Explosive Atmospheres—Part 2: Equipment Protection by Pressurized Enclosures “p” | Withdrawn and replaced | UL 60079-2 Explosive Atmospheres—Part 2: Equipment Protection by Pressurized Enclosures “p.”
ISA 60079-5 Explosive Atmospheres—Part 5: Equipment Protection by Power Filling “q” | Withdrawn and replaced | UL 60079-5 Explosive Atmospheres—Part 5: Equipment Protection by Powder Filling “q.”
ISA 60079-18 Explosive Atmospheres—Part 18: Equipment Protection by Encapsulation “m” | Withdrawn and replaced | UL 60079-18 Explosive Atmospheres—Part 18: Equipment Protection by Encapsulation “m.”
ISA 60079-26 Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).
UL 61010C-1 Process Control Equipment | Withdrawn and replaced | UL 61010-1 Electrical Equipment for Measurement, Control and Laboratory Use; Part 1: General Requirements.

Table 6—Test Standards OSHA Is Removing From the Scope of Recognition of MET Laboratories, Inc.
Test standard(s) being removed | Reason for removal | Replacement test standard(s) (if applicable)
UL 1448 Electric Edge Trimmers | Withdrawn and Replaced | UL 60745-2-15 Particular Requirements for Hedge Trimmers.
UL 1244 Electrical and Electronic Measuring and Testing Equipment | Withdrawn | None.
UL 61010A-1 Electrical Equipment for Laboratory Use; Part 1: General Requirements | Withdrawn and replaced | UL 61010-1 Electrical Equipment for Measurement, Control and Laboratory Use; Part 1: General Requirements.
UL 61010B-1 Electrical Measuring and Test Equipment; Part 1: General Requirements | Withdrawn and replaced | UL 61010-1 Electrical Equipment for Measurement, Control and Laboratory Use; Part 1: General Requirements.
UL 61010C-1 Process Control Equipment | Withdrawn and replaced | UL 61010-1 Electrical Equipment for Measurement, Control and Laboratory Use; Part 1: General Requirements.

Table 7—Test Standards OSHA Is Removing From the Scope of Recognition of TUV Rheinland of North America, Inc.
Test standard(s) being removed | Reason for removal | Replacement test standard(s) (if applicable)
UL 1448 | Withdrawn and replaced | UL 60745-2-15 Particular Requirements for Hedge Trimmers.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010B-1 Electrical Measuring and Test Equipment; Part 1: General Requirements | Withdrawn and replaced | UL 61010-1 Electrical Equipment for Measurement, Control and Laboratory Use; Part 1: General Requirements.
UL 61010C-1 Process Control Equipment | Withdrawn and replaced | UL 61010-1 Electrical Equipment for Measurement, Control and Laboratory Use; Part 1: General Requirements.

Table 8—Test Standards OSHA Is Removing From the Scope of Recognition of TUV SUD America, Inc.
Test standard(s) being removed | Reason for removal | Replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Centrifuges.
UL 1448 | Withdrawn and replaced | UL 60745-2-15 Particular Requirements for Hedge Trimmers.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010.
UL 61010A-2-020 Electrical Equipment for Laboratory Use; Part 2: Particular Requirements for Laboratory Centrifuges | Withdrawn and replaced | UL 61010-2-010 Electrical Equipment for Measurement, Control and Laboratory Use—Part 2-010: Particular Requirements for Laboratory Equipment for the Heating of Materials.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).

Table 9—Test Standards OSHA Is Removing From the Scope of Recognition of TUVPSG, Inc.
Test standard(s) being removed | Reason for removal | Replacement test standard(s) (if applicable)
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.

Table 10—Test Standards OSHA Is Removing From the Scope of Recognition of Underwriters Laboratory, Inc.
Test standard(s) being removed | Reason for removal | Replacement test standard(s) (if applicable)
UL 61010A-2-020—Electrical Equipment for Laboratory Use; Part 2: Particular Requirements for Laboratory Equipment for Laboratory Centrifuges | Standard withdrawn by Standards Organization | UL 61010-2-020—Standard for Safety Requirements for Electrical Equipment for Laboratory Use; Part 2-020: Particular Requirements for Laboratory Centrifuges.
ANSI C37.44 Distribution Oil Cutouts and Fuse Links | Withdrawn | None.
IEEE C37.29 Low-Voltage AC Power Circuit Protectors Used in Enclosures | Withdrawn | None.
IEEE C37.45 Distribution Enclosed Single-Pole Air Switches | Withdrawn | None.
IEEE C37.52 Low-Voltage AC Power Circuit Protectors Used in Enclosures—Test Procedures | Withdrawn | None.
UL 1093 Halogenated Agent Fire Extinguishers | Withdrawn | None.
UL 1244 Electrical and Electronic Measuring and Testing Equipment | Withdrawn | None.
UL 1448 Electric Hedge Trimmers | Withdrawn and replaced | UL 60745-2-15 Particular Requirements for Hedge Trimmers.
ISA 60079-2 Explosive Atmospheres—Part 2: Equipment Protection by Pressurized Enclosures “p” | Withdrawn and replaced | UL 60079-2 Explosive Atmospheres—Part 2: Protection by Pressurized Enclosures “p”.
ISA 60079-5 Explosive Atmospheres—Part 5: Equipment Protection by Power Filling “q” | Withdrawn and replaced | UL 60079-5 Explosive Atmospheres—Part 5: Equipment Protection by Powder Filling “q”.
ISA 60079-18 Explosive Atmospheres—Part 18: Equipment Protection by Encapsulation “m” | Withdrawn and replaced | UL 60079-18 Explosive Atmospheres—Part 18: Equipment Protection by Encapsulation “m”.
ISA 60079-26 Explosive Atmospheres—Part 26: Equipment for Use in Class I, Zone 0 Hazardous (Classified) Locations | Withdrawn and replaced | UL 60079-26 Explosive Atmospheres—Part 26: Equipment for Use in Class I, Zone 0 Hazardous (Classified) Locations.
UL 745-1 Portable Electric Tools | Withdrawn | None.
UL 745-2-1 Particular Requirements of Drills | Withdrawn | None.
UL 745-2-5 Particular Requirements for Circular Saws and Circular Knives | Withdrawn | None.
UL 745-2-17 Particular Requirements for Routers and Trimmers | Withdrawn | None.
UL 745-2-36 Particular Requirements for Hand Motor Tools | Withdrawn | None.
UL 745-2-37 Particular Requirements for Plate Jointers | Withdrawn | None.
UL 61010A-1 Electrical Equipment for Laboratory Use; Part 1: General Requirements | Withdrawn and replaced | UL 61010-1 Electrical Equipment for Measurement, Control and Laboratory Use; Part 1: General Requirements.
UL 61010A-2-010 Electrical Equipment for Laboratory Use; Part 2: Particular Requirements for the Heating of Materials | Withdrawn and replaced | UL 61010-2-010 Electrical Equipment for Measurement, Control and Laboratory Use—Part 2-010: Particular Requirements for Laboratory Equipment for the Heating of Materials.
UL 61010A-2-020 Electrical Equipment for Laboratory Use; Part 2: Particular Requirements for Laboratory Centrifuges | Withdrawn and replaced | UL 61010-2-020 Electrical Equipment for Measurement, Control, and Laboratory Use—Part 2-020: Particular Requirements for Laboratory Centrifuges.
UL 61010A-2-041 Electrical Equipment for Laboratory Use: Part 2: Particular Requirements for Autoclaves Using Steam for the Treatment of Medical Materials for Laboratory Purposes | Withdrawn and replaced | UL 61010-1 (no direct replacement).
UL 61010A-2-051 Electrical Equipment for Laboratory Use; Part 2: Particular Requirements for Laboratory Equipment Mixing and Stirring | Withdrawn and replaced | UL 61010-2-051 Electrical Equipment for Measurement, Control and Laboratory Use—Part 2-051: Particular Requirements for Laboratory Equipment for Mixing and Stirring.
UL 61010A-2-061 Electrical Equipment for Laboratory Use: Part 2: Particular Requirements for Laboratory Atomic Spectrometers with Thermal Atomization and Ionization | Withdrawn and replaced | UL 61010-2-061 Electrical Equipment for Measurement, Control and Laboratory Use—Part 2-061: Particular Requirements for Laboratory Atomic Spectrometers with Thermal Atomization and Ionization.
UL 61010B-1 Electrical Measuring and Test Equipment; Part 1: General Requirements | Withdrawn and replaced | UL 61010-1 Electrical Equipment for Measurement, Control and Laboratory Use; Part 1: General Requirements.
UL 61010B-2-031 Electrical Equipment for Measurement, Control and Laboratory Use: Part 2: Particular Requirements for Hand-Held Probe Assemblies for Electrical Measurement and Test | Withdrawn and replaced | UL 61010-1 (no direct replacement).
UL 61010C-1 Process Control Equipment | Withdrawn and replaced | UL 61010-1 Electrical Equipment for Measurement, Control and Laboratory Use; Part 1: General Requirements.

OSHA will place on its informational web pages the modifications to each NRTL's scope of recognition. These web pages detail the scope of recognition for each NRTL, including the test standards the NRTL may use to test and certify products under OSHA's NRTL Program. OSHA also will add to the list of “Appropriate Test Standards” web page, those test standards added to the NRTL Program's List of Appropriate Test Standards. The agency will add to the “Standards No Longer Recognized” web page those test standards that OSHA no longer recognizes or permits under the NRTL Program. Access to these web pages is available at http://www.osha.gov/dts/otpca/nrtl/index.html.

IV. Authority and Signature

Loren Sweatt, Principal Deputy Assistant Secretary of Labor for Occupational Safety and Health, authorized the preparation of this notice. Accordingly, the agency is issuing this notice pursuant to 29 U.S.C. 657(g)(2)), Secretary of Labor's Order No. 1-2012 (77 FR 3912, Jan. 25, 2012), and 29 CFR 1910.7.

Signed at Washington, DC, on March 19, 2020.
Loren Sweatt,
Principal Deputy Assistant Secretary of Labor for Occupational Safety and Health.

[FR Doc. 2020-06144 Filed 3-23-20; 8:45 am]

BILLING CODE 4510-26-P